DEPARTMENT OF TRANSPORTATION

Federal Aviation Administration

14 CFR Part 61

[Docket No.: FAA-2025-3519; Notice No. 26-01]

RIN 2120-AM12

Sport Pilot Practical Test Standards Alignment

AGENCY: Federal Aviation Administration (FAA), Department of Transportation (DOT).

ACTION: Notice of proposed rulemaking (NPRM).

SUMMARY: FAA proposes to revise certain regulations governing airman certification and proposes to incorporate three updated sport pilot practical test standards (PTS) by reference. The proposed update would align the airman testing standards with newly adopted regulatory requirements in the Modernization of Special Airworthiness Certification (MOSAIC) final rule related to the certification of sport pilots and operation of light-sport category aircraft and update the PTS to improve airman certification standard materials.

DATES: Send comments on or before January 7, 2026.

ADDRESSES: Send comments identified by docket number FAA-2025-3519 using any of the following methods:

• Federal eRulemaking Portal: Go to www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590 between 9 a.m. and 5 p.m., Monday through Friday, except Federal holidays.

• Fax: Fax comments to Docket Operations at (202) 493-2251.

Privacy: In accordance with 5 U.S.C. 553(c), FAA solicits comments from the public to inform its rulemaking process better. FAA posts these comments, without edit, including any personal information the commenter provides, to www.regulations.gov, as described in the system of records notice (DOT/ALL-14 FDMS), which can be reviewed at www.dot.gov/privacy.

Docket: Background documents or comments received may be read at www.regulations.gov at any time. Follow the online instructions for accessing the docket or go to the Docket Operations in Room W12-140 of the West Building Ground Floor at 1200 New Jersey Avenue SE, Washington, DC 20590 between 9 a.m. and 5 p.m., Monday through Friday, except Federal holidays.

FOR FURTHER INFORMATION CONTACT: Ethan Argenbright, General Aviation and Commercial Division/Testing Standards Section, AFS-810, Federal Aviation Administration, 800 Independence Avenue SW, Washington, DC 20591; telephone (405) 954-6404; email ethan.d.argenbright@faa.gov.

SUPPLEMENTARY INFORMATION:

List of Abbreviations and Acronyms Frequently Used in This Document

ACS—Airman Certification Standards

CFR—Code of Federal Regulations

DOT—Department of Transportation

FAA—Federal Aviation Administration

FR—Federal Register

IBR—Incorporation by reference

MOSAIC—Modernization of Special Airworthiness Certification

NPRM—Notice of proposed rulemaking

PTS—Practical Test Standards

RFA—Regulatory Flexibility Act

U.S.C.—United States Code

I. Executive Summary

A. Overview of Proposed Rule

FAA proposes to update the current language in three PTS related to the certification of sport pilots and operation of light-sport category aircraft to address a conflict between regulations adopted by the MOSAIC final rule and current language in three sport pilot PTS. These updates would align language in the sport pilot PTS that identifies which aircraft can be used to satisfy practical test and proficiency check requirements under part 61 with the new sport pilot operational limits adopted in the MOSAIC final rule. FAA also proposes to make non-substantive, conforming amendments to update minor terminology inconsistencies throughout these three PTS.

Specifically, FAA proposes to update three sport pilot PTS currently listed in § 61.14 (a)(12), (13), and (14): (1) Sport Pilot and Sport Pilot Flight Instructor Rating PTS for Airplane Category; Gyroplane Category, and Glider Category (FAA-S-8081-29A); (2) Sport Pilot and Sport Pilot Flight Instructor Rating PTS for Lighter-Than-Air Category (FAA-S-8081-30A); and (3) Sport Pilot and Sport Pilot Flight Instructor PTS for Powered Parachute Category, Weight-Shift-Control Aircraft Category (FAA-S-8081-31A).

The proposed rule would align pilot certification standards in these three PTS with regulatory changes adopted by the MOSAIC final rule by replacing references to “light-sport aircraft” as defined in § 1.1 (General definitions) with “aircraft” to encompass aircraft meeting the performance limits and design requirements for sport pilot operation set forth in new § 61.316. The performance limits and design requirements in § 61.316 expand the aircraft that sport pilots and flight instructors with a sport pilot rating may operate, therefore necessitating revisions to the sport pilot PTS to reflect those expanded aircraft privileges. The proposed changes in the PTS will reduce confusion between “light-sport aircraft” defined in § 1.1, which will be removed upon effectivity of the MOSAIC final rule, and future light-sport category aircraft. This proposal would also align practical test requirements for the certification of pilots and flight instructors with a sport pilot rating seeking to add airplane privileges to their sport pilot certificate.

B. Statement of the Problem

The MOSAIC final rule, upon effectivity, removes the “light-sport aircraft” term defined in § 1.1 and replaces it with separate eligibility requirements for certification of future light-sport category aircraft and sport pilots. MOSAIC will revise and relocate the substantive performance and design requirements for those aircraft that a sport pilot may operate to new § 61.316. Currently, the aforementioned sport pilot PTS contain the term “light-sport aircraft,” characterizing certain tasks under the definitional performance limitations that will be removed upon effectivity rather than the expanded performance and design requirements in new § 61.316. In addition, MOSAIC will require sport pilots and flight instructors with a sport pilot rating seeking to add an airplane or helicopter privilege to their existing sport pilot certificate or flight instructor certificate to accomplish a practical test under §§ 61.307 and 61.405. These regulatory changes necessitate updated sport pilot PTS to prevent inadvertent conflict between the regulations and the standards set forth in PTS, which could result in conflicting aircraft and testing standards (e.g., which aircraft the sport pilots and sport pilot flight instructors may use to complete the practical test or proficiency check requirements for certain sport pilot privileges). FAA also proposes to update incorrect terminology or guidance references and other edits to improve the quality of the PTS.

C. Summary of the Costs and Benefits

FAA expects no costs for the proposed rule to stakeholders and only minimal costs to the agency. FAA does not anticipate new costs to applicants for an initial certificate, rating, or privilege, or to existing airmen, because there are no substantive changes to the testing processes, areas of operation, or elements upon which airmen are currently tested in order to obtain a certificate. FAA will incur some minimal costs to make changes to the PTS and upload the updated versions to its website, but FAA does not anticipate any other costs to the agency because the process by which testing is conducted or the manner in which PTS and Airman Certification Standards (ACS) are currently implemented is not changing. Aligning the PTS with the MOSAIC final rule ensures consistent application of MOSAIC's not quantified benefits, such as increased safety from allowing sport pilots to train, test, and fly with larger and more varied aircraft.

II. Authority for This Rulemaking

FAA's authority to issue rules on aviation safety is found in Title 49 of the United States Code (U.S.C.) Subtitle I, Section 106, which describes the authority of FAA Administrator. Subtitle VII, Aviation Programs, further describes the scope of FAA's authority. This proposed rulemaking is issued under the authority described in 49 U.S.C. 106(f), which establishes the authority of the Administrator to promulgate and revise regulations, rules, and other official publications related to aviation safety. This proposed rulemaking is promulgated under the authority granted to the Administrator in 49 U.S.C. Subtitle VII, Part A, Subpart iii, Chapter 401, Section 40113 (prescribing general authority of the Administrator of FAA with respect to aviation safety duties and powers to prescribe regulations) and Subpart III, Chapter 447, Sections 44701 (general authority of the Administrator to promote safe flight of civil aircraft in air commerce by prescribing regulations and setting minimum standards for other practices, methods, and procedures necessary for safety in air commerce and national security), 44702 (general authority of the Administrator to issue airman certificates), and 44703 (general authority of the Administrator to prescribe regulations for the issuance of airman certificates when the Administrator finds, after investigation, an individual is qualified for and physically able to perform the duties related to the position authorized by the certificate). This rulemaking proposal is within the scope of that authority.

III. Background

A. History and Related Regulatory Actions

On July 24, 2025, FAA published the MOSAIC final rule (90 FR 35218). The MOSAIC rulemaking amended rules for the manufacture, certification, operation, maintenance, and alteration of light-sport aircraft, which subsequently increased sport pilot privileges and expanded what aircraft sport pilots may operate.

The MOSAIC final rule restructured certification requirements for light-sport category aircraft, which resulted in FAA removing the “light-sport aircraft” definition from § 1.1. As such, FAA adopted new performance limitations and design requirements for sport pilot operations in § 61.316. While new performance and design limitations in § 61.316, which expand the aircraft sport pilots may operate, are effective 90 days after publication of the MOSAIC final rule, the “light-sport aircraft” definition in § 1.1 will remain effective for 365 days after publication of the MOSAIC final rule.

The sport pilot certificate differs from higher grades of pilot certificates because FAA does not issue category and class ratings on a sport pilot certificate. Upon the successful completion of the practical test for a sport pilot certificate, or a proficiency check as appropriate for the privileges sought, FAA issues the applicant a sport pilot certificate without any category and class ratings and provides the pilot with a logbook endorsement for the category and class of aircraft for which the pilot is authorized to act as pilot-in-command (i.e., the category and class of aircraft in which the practical test was conducted).

Currently, under § 61.321, to obtain privileges to operate an additional category or class of light-sport aircraft, the sport pilot must receive training and an endorsement from an authorized instructor for the additional privilege, pass a proficiency check from an authorized instructor (other than the instructor who trained them), and have received a logbook endorsement from the instructor who conducted the proficiency check. The logbook endorsement certifies the sport pilot is authorized for the additional category and class light-sport aircraft privilege. Section 61.419 contains mirrored requirements for a certificated flight instructor to complete a proficiency check when seeking to provide training in an additional category or class of aircraft.

Though §§ 61.321 and 61.419 will retain the successful completion of a proficiency requirement for most sport pilot and sport pilot rating privileges (i.e., glider category privileges, rotorcraft category and gyroplane class privileges, lighter-than-air category and airship class privileges, lighter-than-air category and balloon class privileges, powered parachute land or sea class privileges, and weight shift control aircraft category and land or sea class privileges), the MOSAIC final rule will change the requirement for additional airplane privileges.¹ As adopted in the MOSAIC final rule, §§ 61.321(b) and 61.419(e) require the successful completion of a practical test ² for the sport pilot and flight instructor certificate, respectively, when adding an airplane single engine land or sea class privilege.

¹ New §§ 61.321(b) and 61.419(e) also require successful completion of a practical test for sport pilots and flight instructor certificates when seeking a rotorcraft-helicopter with simplified flight controls designation privilege; however, those testing standards were adopted in the MOSAIC final rule.

² A proficiency check is conducted by a flight instructor, whereas a practical test is conducted by a pilot examiner. Pilot examiners must meet additional experience requirements and are specifically trained and approved by FAA. Pilot examiners also receive direct FAA oversight and supervision as designees for such responsibility.

B. Incorporation by Reference

In 2024, FAA published the Airman Certification Standards and Practical Test Standards for Airman; Incorporation by Reference final rule ³ to revise certain regulations governing airman certification to incorporate the ACS and PTS by reference into the certification requirements for pilots and flight instructors (as it pertains to part 61). FAA created § 61.14 as a centralized incorporation by reference (IBR) section to streamline the regulations.⁴ This rulemaking proposes to update three sport pilot PTS incorporated currently by reference in § 61.14 (a)(12), (13), and (14).

³ 89 FR 22482 (April 2, 2024).

⁴ FAA directs compliance on the respective practical tests and proficiency checks with the appropriate ACS and PTS through §§ 61.43, 61.57, 61.58, 61.321, and 61.419.

IBR is a mechanism that allows Federal agencies to comply with the requirements of the Administrative Procedure Act to publish rules in the Federal Register and the Code of Federal Regulations (CFR) by referring to material published elsewhere. Material that is incorporated by reference has the same legal status as if it were published in full in the Federal Register. Because 5 U.S.C. 552(a) requires the Director of the Federal Register to approve material to be incorporated by reference, incorporation by reference is governed by the Office of the Federal Register and as promulgated in its regulations at 1 CFR part 51. Specifically, 1 CFR part 51 provides certain requirements a regulatory incorporation by reference must contain. Under 5 U.S.C. 552(a), matter incorporated by reference must be “reasonably available” as a condition of its eligibility. Further, 1 CFR 51.5(a)(2) requires agencies seeking to incorporate material by reference to discuss in the preamble of the proposed rule the ways the material it proposes to incorporate by reference is reasonably available to interested parties and how interested parties can obtain the material. In accordance with 5 U.S.C. 552(a) and 1 CFR part 51, FAA makes the PTS reasonably available for interested parties by providing free online public access to view on FAA Training and Testing website at https://www.faa.gov/training_testing. The PTS are available for download, free of charge, at the provided web address. FAA will continue to provide the PTS to interested parties in this manner. For further information, contact the Training and Certification Group at 202-267-1100, acsptsinquiries@faa.gov, or 800 Independence Avenue SW, Washington, DC 20591.

The PTS require an applicant seeking a certificate or rating to complete specific tasks and maneuvers to a minimum prescribed standard to obtain the applicable certificate or rating. As such, if an applicant does not perform a task to the standard in the applicable ACS or PTS, the applicant cannot obtain the corresponding certificate and rating.

FAA proposes to update PTS, generally summarized as follows:

• Sport Pilot and Sport Pilot Flight Instructor Practical Test Standards for Airplane Category, Rotorcraft Category, and Glider Category; FAA-S-8081-29A, which establishes the aeronautical knowledge, special emphasis areas considered critical to flight safety, and proficiency standards for the sport pilot practical tests and proficiency checks for the airplane, gyroplane, glider, and flight instructor. This PTS contains the following Areas of Operation: Preflight Preparation; Preflight Procedures; Airport and Seaplane Base Operations; Takeoffs, Landings, and Go-Arounds; Performance Maneuver; Ground Reference Maneuvers; Navigation; Slow Flight and Stalls; Emergency Operations; and Postflight Procedures.

• Sport Pilot and Sport Pilot Flight Instructor Practical Test Standards for Lighter-Than-Air Category; FAA-S-8081-30A, which establishes the aeronautical knowledge, special emphasis areas considered critical to flight safety, and proficiency standards for the sport pilot practical tests and proficiency checks for the airship, balloon, and flight instructor. This PTS contains the following Areas of Operation: Preflight Preparation; Preflight Procedures; Airport Operations; Takeoffs, Landings, and Go-Arounds; Performance Maneuver; Ground Reference Maneuvers; Navigation; Emergency Operations; and Postflight Procedures.

• Sport Pilot and Sport Pilot Flight Instructor Practical Test Standards for Powered Parachute Category and Weight-Shift Control Category; FAA-S-8081-31A, which establishes the aeronautical knowledge, special emphasis areas considered critical to flight safety, and proficiency standards for the sport pilot practical tests and proficiency checks for the weight-shift control, powered parachute, and flight instructor. This PTS contains the following Areas of Operation: Preflight Preparation; Preflight Procedures; Airport and Seaplane Base Operations; Takeoffs, Landings, and Go-Arounds; Performance Maneuver; Ground Reference Maneuvers; Navigation; Slow Flight and Stalls; Emergency Operations; and Postflight Procedures.

Drafts of the three amended PTS to be incorporated by reference are contained in the docket for this NPRM for inspection and comment. The following section provides additional information regarding these three PTS and revisions to the PTS introduced in this proposed rule.

IV. Discussion of the Proposal

FAA proposes minor amendments to 14 CFR part 61, specifically § 61.14(a) and appendix A to part 61, to reflect updated titles and publication dates for the PTS. As previously described, FAA also proposes to revise three sport pilot PTS to update terminology and regulatory references and align testing standard requirements with newly adopted regulations in the MOSAIC final rule.

A. Amendments to 14 CFR Part 61

Section 61.14 sets forth a centralized section containing the IBR approval language, the standards' publishing information, and a list of the ACS and PTS incorporated by reference. Section 61.14(a) sets forth the PTS currently incorporated by reference in part 61. FAA proposes to amend § 61.14 to update the titles, version letter, and publication dates for the respective PTS discussed herein and set forth in § 61.14(a)(12), (a)(13), and (a)(14).

Appendix A to Part 61—Airman Certification Standards and Practical Test Standards aids applicants and evaluators in identifying which ACS or PTS must be utilized for the certificate or rating the applicant seeks. Similar to the changes proposed for § 61.14, FAA proposes to update the references in appendix A to update the titles, version letters, and publication dates for the respective PTS discussed herein. FAA acknowledges the MOSAIC final rule, upon effectivity, will integrate two new ACS in the Appendix A table that do not appear in this NPRM; FAA will reconcile this proposal with the effective MOSAIC provisions upon finalization of this rulemaking.

B. Updates to the PTS

FAA proposes to amend three PTS (FAA-S-8081-29, FAA-S-8081-30, and FAA-S-8081-31) to prevent conflict between the MOSAIC final rule and the current language in those PTS. FAA also proposes to make additional minor terminology and grammatical amendments to correct language in the PTS. This section discusses the proposed changes that apply to all three PTS and presents Table 1, Record of Changes, detailing other proposed revisions specific to each PTS.

FAA proposes to make the following nine edits in all three referenced PTS:

• Remove references to “light-sport aircraft” and replace with “aircraft” or “aircraft meeting the requirements in § 61.316,” where applicable, for consistency with the removal of the definition of “light-sport aircraft” from § 1.1, General definitions, and to align with the new performance limits and design requirements in § 61.316.

• Revise the PTS titles to change references to flight instructors from “Sport Pilot Flight Instructor” to “Flight Instructors with a Sport Pilot Rating” to align flight instructor references with 14 CFR part 61, subpart K, Flight Instructors with a Sport Pilot Rating. This terminology correction would not impose a new requirement.

• Replace all references of “DPE,” “Designated Pilot Examiner,” “SAE,” “Specialty Aircraft Examiner,” “SFIE,” “Sport Flight Instructor Examiner,” “SPE,” “Sport Pilot Examiner,” and “examiner” with “pilot examiner” to use the correct terminology consistent with the use of pilot examiners in § 183.23. The term “pilot examiner” is a more general term encompassing a variety of examiner functions and more accurately reflects the functions the pilot examiner serves in the context of these PTS. This terminology correction would not impose a new requirement.

• Add “14 CFR part 73 Special Use Airspace” to the list of references the practical tests standards are based on in the PTS Description section. This reference was inadvertently omitted from prior PTS versions and would not impose a new substantive requirement for applicants, as the relevant content of part 73 is already enumerated in the PTS elements.

• Revise NOTAM acronym from “Notice to Air Missions” to “Notice to Airmen.” ⁵

⁵ Per FAA Order 7930.2T NOTAM Reversal effctive February 10, 2025.

• Replace references of “FAA inspector” with “aviation safety inspector” or “ASI” for consistency with FAA standard nomenclature.

• Update the title version letters from “A” to “B.”

• Update the publication dates from “November 2023” to “(To be determined publication month) 2025.”

• Make multiple non-substantive, technical changes including correcting typos, fixing spacing and numbering errors, updating references in general and web addresses, and correcting terminology.

Table 1, Record of Changes to PTS, inventories the proposed revisions unique to each PTS. These proposed changes include updating terminology, aligning language with other FAA guidance, and conforming language to align with amended regulations. The changes in the table are in addition to the changes previously discussed.

Table 1—Record of Changes to PTS
Location | Proposed change | Rationale
Practical Test Standard (PTS) FAA-S-8081-29A
Title and Foreword | Replace “Gyroplane” with “Rotorcraft Category Gyroplane” in title | Specify category and class of PTS applicability.
Introduction: General Information | Remove “make and model” as an alternative to “category/class” for endorsement limitations | Conform with new § 61.3(m).
Introduction: Flight Instructor Responsibility | Replace “students” with “learners.” | Consistency and standardization of term.
Section 1, Sport Pilot Airplane, (ASEL and ASES) | Revise references to proficiency check requirements for adding sport pilot airplane privileges to require completing a practical test | Align with § 61.321(b).
Section 1, Sport Pilot Airplane, (ASEL and ASES): VIII. AREA OF OPERATION: SLOW FLIGHT AND STALLS, B. TASK: POWER-OFF STALLS (ASEL and ASES) | Revise element 6 | Correct order of recovery steps to align with Airplane Flying Handbook (FAA-H-8083-3), Chapter 5, Full Stalls, Power Off. No substantive change.
| In element 7., remove “(ASES)” | Correct drafting error. No substantive change. This element was and continues to be a requirement for both ASEL and ASES when applicable to the airplane the applicant operates during the practical test in accordance with the airplane's Pilot's Operating Handbook.
Section 1, Sport Pilot Airplane, (ASEL and ASES): VIII. AREA OF OPERATION: SLOW FLIGHT AND STALLS, C. TASK: POWER-ON STALLS (ASEL and ASES) | Revise element 6 | Correct order of recovery steps to align with Airplane Flying Handbook (FAA-H-8083-3). No substantive change.
Section 1, Sport Pilot Airplane, (ASEL and ASES): X. AREA OF OPERATION: POSTFLIGHT PROCEDURES, A. TASK: AFTER LANDING, PARKING, AND SECURING (ASEL and ASES) | In element 3., insert “and signs” after “markings” | Update terminology for airman testing standard knowledge element consistency.
Section 2, Sport Pilot, Gyroplane: Applicant's Practical Test Checklist Appointment with Evaluator, Personal Records | Insert “Letter of Discontinuance (as applicable)” to list of Personal Records | Align with § 61.43(e).
Section 2, Sport Pilot, Gyroplane: I. AREA OF OPERATION: PREFLIGHT PREPARATION, F. TASK: OPERATION OF SYSTEMS | Add “FAA-H-8083-21” to list of references | Add for reference consistency within Section 2, specific to gyroplane reference materials.
Section 2, Sport Pilot, Gyroplane: II. AREA OF OPERATION: PREFLIGHT PROCEDURES, D. TASK: TAXIING | In element 4., delete “signals” and add in its place “signs, and lighting” after “markings.” | Update terminology for airman testing standard knowledge element consistency.
Section 2, Sport Pilot, Gyroplane: VIII. AREA OF OPERATION: FLIGHT AT SLOW AIRSPEEDS, A. TASK: STRAIGHT-AND-LEVEL, TURNS, CLIMBS, AND DESCENTS AT SLOW AIRSPEEDS | Revise element 2 | Align with the Rotorcraft Flying Handbook, FAA-H-8083-21, chapter 20, minimum altitude for ground reference maneuvers and remove “safe altitude” because it is not a defined term.
Section 2, Sport Pilot, Gyroplane: X. AREA OF OPERATION: POSTFLIGHT PROCEDURES, A. TASK: AFTER LANDING, PARKING AND SECURING | In element 3., insert “signs,” after “markings.” | Update terminology for airman testing standard knowledge element consistency.
Section 3, Sport Pilot, Glider: Applicant's Practical Test Checklist Appointment with Evaluator, Personal Records | Insert “Letter of Discontinuance (as applicable)” to list of Personal Records | Align with § 61.43(e).
Section 3, Sport Pilot, Glider, I Area of Operation: Preflight Preparation, Tasks A, B, C, E, and F. | Add “FAA-H-8083-13” to list of references | Add for reference consistency within Section 3, specific to glider reference materials.
Section 3, Sport Pilot, Glider, IV Area of Operation: Launches and Landings, Tasks L, M, and N. | Add “FAA-H-8083-13” to list of references | Add for reference consistency within Section 3, specific to glider reference materials.
Section 3, Sport Pilot, Glider, VII. Area of Operation: Navigation, Task A, Flight Preparation and Planning. | Add “FAA-H-8083-25” to list of references | Add for reference consistency within Section 3, Area of Operation VII.
Section 4, Flight Instructors with a Sport Pilot Rating | Revise references to proficiency check requirements for adding sport pilot airplane privileges to require completing a practical test | Align with new § 61.419(e).
Section 4, Flight Instructors with a Sport Pilot Rating: Applicant's Practical Test Checklist Appointment with Evaluator, Personal Records | Insert “Letter of Discontinuance (as applicable)” as the eighth bullet, “FAA Form 8060-5, Notice of Disapproval of Application (if applicable).” | Align with § 61.43(e).
Section 4, Flight Instructors with a Sport Pilot Rating: II. AREA OF OPERATION: TECHNICAL SUBJECT AREAS, A. TASK: AEROMEDICAL FACTORS | In element 1., replace “certificate” with “qualifications.” | Align with § 61.23(c)(1)(iii).
Section 4, Flight Instructors with a Sport Pilot Rating: II. AREA OF OPERATION: TECHNICAL SUBJECT AREAS, A. TASK: AEROMEDICAL FACTORS | Revise reference to replace “FAA-H-8083-3” with “FAA-H-8083-25.” | Correct reference.
Section 4, Flight Instructors with a Sport Pilot Rating: II. AREA OF OPERATION: TECHNICAL SUBJECT AREAS, D. TASK: LOGBOOK ENTRIES AND CERTIFICATE ENDORSEMENTS | Remove element “d. make and model privileges” and designate element “e.” as element “d.” | Conform with new § 61.3(m).
Practical Test Standard (PTS) FAA-S-8081-30A
Introduction: Single-Seat Aircraft Proficiency Check | Remove “make and model” references | Conform with new § 61.3(m).
Section 1, Sport Pilot Airship: Applicant's Practical Test Checklist Appointment with Evaluator, PERSONAL RECORDS | Insert “Letter of Discontinuance (as applicable)” to list of Personal Records | Align with § 61.43(e).
Section 2, Sport Pilot Balloon: Applicant's Practical Test Checklist Appointment with Evaluator, PERSONAL RECORDS | Insert “Letter of Discontinuance (as applicable)” to list of Personal Records | Align with § 61.43(e).
Section 2, Sport Pilot Balloon: II. AREA OF OPERATION: PREFLIGHT PROCEDURES, D. TASK: PREFLIGHT INSPECTION | In element 2.a., add “gondola.” | Align with FAA-H-8083-11B, Balloon Flying Handbook, page G-5, the term gondola is defined as that portion of a gas balloon that carries the pilot, passengers, cargo, ballast, and instruments.
Section 3, Flight Instructors with a Sport Pilot Rating: Applicant's Practical Test Checklist Appointment with Evaluator, PERSONAL RECORDS | Insert “Letter of Discontinuance (as applicable)” to list of Personal Records | Align with § 61.43(e).
Section 3, Flight Instructors with a Sport Pilot Rating: Initial Flight Instructor Certification Practical Test—Unsatisfactory Performance | In the third paragraph, revise the phrase to include unsatisfactory performance | Update description for consistency.
Section 3, Flight Instructors with a Sport Pilot Rating: Proficiency Check-Satisfactory Performance When Adding an Additional Category/Class | Insert “class” after the word “category” in the first paragraph | Conform with amended § 61.419.
Section 3, Flight Instructors with a Sport Pilot Rating: Proficiency Check—Unsatisfactory Performance When Adding an Additional Category/Class | In the second paragraph, revise the phrase to include unsatisfactory performance | Update description for consistency.
Section 3, Flight Instructors with a Sport Pilot Rating: II. AREA OF OPERATION: TECHNICAL SUBJECT AREAS, A. TASK: AEROMEDICAL FACTORS | In element 1., replace “certificate” with “qualifications.” | Conform with § 61.23(c)(1)(iii).
Section 3, Flight Instructors with a Sport Pilot Rating: II. AREA OF OPERATION: TECHNICAL SUBJECT AREAS, D. TASK: LOGBOOK ENTRIES AND CERTIFICATE ENDORSEMENTS | Remove element “d. make and model privileges” and designate element “e.” as element “d.” | Conform with new § 61.3(m).
Practical Test Standard (PTS) FAA-S-8081-31A
Introduction: Single-Seat Aircraft Proficiency Check | Remove “make and model” references | Conform with new § 61.3(m).
Section 1, Sport Pilot Weight-Shift-Control (WSCL and WSCS): Applicant's Practical Test Checklist Appointment with Evaluator, PERSONAL RECORDS | Insert “Letter of Discontinuance (as applicable)” to list of Personal Records | Align with § 61.43(e).
Section 1, Sport Pilot Weight-Shift-Control (WSCL and WSCS): II. AREA OF OPERATION: PREFLIGHT PROCEDURES, F. TASK: TAXIING (WSCL) | In element 5., remove the word “signals,” and add in its place the phrase “signs, lighting.” | Update terminology for airman testing standard knowledge element consistency.
Section 1, Sport Pilot Weight-Shift-Control (WSCL and WSCS): IV. AREA OF OPERATION: TAKEOFFS, LANDINGS, AND GO-AROUNDS, B. TASK: POWER-ON AND CROSSWIND APPROACH AND LANDING (WSCL and WSCS) | In element 2., remove “(WSCS).” | Align with the Weight-Shift-Control Aircraft Flying Handbook, FAA-H-8083-5, Chapter 11, Power-On and Crosswind Approaches and Landings. No substantive change.
Section 1, Sport Pilot Weight-Shift-Control (WSCL and WSCS), IV. AREA OF OPERATION: TAKEOFFS, LANDINGS, AND GO-AROUNDS, G. TASK: STEEP APPROACH TO A LANDING (WSCL and WSCS) | In element 2., remove “(WSCS).” | Align with airman testing standards Weight-Shift-Control Aircraft Flying Handbook, FAA-H-8083-5, Chapter 11, Steep Approach To a Landing. No substantive change.
Section 1, Sport Pilot Weight-Shift-Control (WSCL and WSCS): X. AREA OF OPERATION: POSTFLIGHT PROCEDURES, A. TASK: AFTER LANDING, PARKING, AND SECURING (WSCL and WSCS) | In element 3., insert “signs,” after the word “markings.” | Update terminology for airman testing standard knowledge element consistency.
Section 2 Sport Pilot Powered Parachute (PPCL and PPCS): Applicant's Practical Test Checklist Appointment with Evaluator, PERSONAL RECORDS | Insert “Letter of Discontinuance (as applicable)” to list of Personal Records | Align with § 61.43(e).
Section 2, Sport Pilot Powered Parachute (PPCL and PPCS): II. AREA OF OPERATION: PREFLIGHT PROCEDURES, F. TASK: TAXIING AND SAILING (PPCS) | Revise element 8 | Update terminology for airman testing standard knowledge element consistency.
Section 2, Sport Pilot Powered Parachute (PPCL and PPCS): IV. AREA OF OPERATION: TAKEOFFS, LANDINGS, AND GO AROUNDS, B. TASK: NORMAL APPROACH AND LANDING (PPCL and PPCS) | In element 2., remove “(PPCS).” | Align with the Powered Parachute Flying Handbook, FAA-H-8083-29, Chapter 11, Normal Approach and Landing. No substantive change.
Section 2, Sport Pilot Powered Parachute (PPCL and PPCS): IX. AREA OF OPERATION: POSTFLIGHT PROCEDURES, A. TASK: AFTER LANDING, PARKING, AND SECURING (PPCL and PPCS) | In element 2., insert “signs,” between the words “marking” and “lighting.” | Update terminology for airman testing standard knowledge element consistency.
Section 3, Flight Instructors with a Sport Pilot Rating: Applicant's Practical Test Checklist Appointment with Evaluator, PERSONAL RECORDS | Insert “Letter of Discontinuance (as applicable)” to list of Personal Records | Align with § 61.43(e).
Section 3, Flight Instructors with a Sport Pilot Rating: Proficiency Check-Satisfactory Performance When Adding Additional Category/Class Privileges | Insert “class” after the word “category” in the first paragraph | Conform with amended § 61.419.
Section 3, Flight Instructors with a Sport Pilot Rating: II. AREA OF OPERATION: TECHNICAL SUBJECT AREAS, D. TASK: LOGBOOK ENTRIES AND CERTIFICATE ENDORSEMENTS | Remove “d. make and model privileges.” and designate element “e.” as element “d.” | Conform with new § 61.3(m).

V. Regulatory Notices and Analyses

A. Regulatory Impact Analysis

Executive Order (E.O.) 12866 (“Regulatory Planning and Review”) and E.O. 13563 (“Improving Regulation and Regulatory Review”) require agencies to regulate in the “most cost-effective manner,” to make a “reasoned determination that the benefits of the intended regulation justify its costs,” and to develop regulations that “impose the least burden on society.” This NPRM is nonsignificant for the purposes of E.O. 12866.

Benefits

The benefits of the proposed rule stem from aligning the sport pilot practical test standards with the MOSAIC final rule published on July 24, 2025, therefore sharing similar benefits to MOSAIC by facilitating the move to performance-based standards that expand the aircraft sport pilots can utilize. Facilitating the allowance of larger and more varied aircraft for use by sport pilots provides potential safety benefits from stronger airframes and being able to carry additional safety equipment further expanded upon in the MOSAIC final rule preamble.

Costs

FAA estimates that the proposed rule would result in no costs to stakeholders and minimal costs to FAA. The testing standards used by stakeholders are freely available on FAA's website, and FAA does not require printing or physical copies of these documents. Therefore, once the updated documents are made available after final rule publication, the voluntary choice to print the updated standards by testing centers, companies, or individuals is not considered an incurred cost of this proposed rule. FAA also does not anticipate new costs to applicants for an initial certificate, rating, or privilege and to existing airmen (e.g., pilots completing proficiency checks or pilots seeking additional certificates or ratings). As the practical tests are already conducted in accordance with the applicable ACS or PTS, and there are no substantive changes to the testing processes, areas of operation, or elements upon which airmen are currently tested to obtain a certificate, the proposed rule does not create a change from the baseline that would induce costs.

FAA would incur a minimal cost to make the proposed updates aligning the PTS documents with the MOSIAC final rule and uploading them to its website. FAA does not anticipate other costs to the agency from these updates because the process by which testing is conducted, or the manner in which PTS and ACS are currently implemented, is not changing. Therefore, FAA considers this to be a no cost rule for stakeholders with only minimal costs to the agency, but requests comment if other potential costs were not considered.

B. Regulatory Flexibility Act

The Regulatory Flexibility Act (RFA) of 1980, (5 U.S.C. 601-612), as amended by the Small Business Regulatory Enforcement Fairness Act of 1996 (Pub. L. 104-121) and the Small Business Jobs Act of 2010 (Pub. L. 111-240,), requires Federal agencies to consider the effects of the regulatory action on small business and other small entities and to minimize any significant economic impact. The term “small entities” comprises small businesses and not-for-profit organizations that are independently owned and operated and are not dominant in their fields, and governmental jurisdictions with populations of less than 50,000.

This proposed rule would update three PTS for sport pilots to align with the requirements set forth by the MOSAIC final rule. These changes are made by FAA to its own documents, freely provided and accessible on FAA's testing standards web pages. Some aviation supply or testing entities may choose to print and sell the PTS, but since FAA does not require physical versions of the standards, any costs to re-print the documents are incurred voluntarily and are not attributable to this proposed rule. Therefore, there are no significant economic impacts to small entities.

If an agency determines a rulemaking will not result in a significant economic impact on a substantial number of small entities, the head of the agency may so certify under section 605(b) of the RFA. Therefore, as provided in section 605(b) and based on the foregoing, the head of FAA certifies this rulemaking would not result in a significant economic impact on a substantial number of small entities.

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety and does not operate in a manner that excludes imports that meet this objective. The statute also requires consideration of international standards and, where appropriate, that they be the basis for U.S. standards.

FAA has assessed the potential effect of this proposed rule and determined it ensures the safety of the American public and does not exclude imports that meet this objective. As a result, FAA does not consider this proposed rule as creating an unnecessary obstacle to foreign commerce.

D. Unfunded Mandates Assessment

The Unfunded Mandates Reform Act of 1995 (2 U.S.C. 1531-1538) governs the issuance of Federal regulations that require unfunded mandates. An unfunded mandate is a regulation that requires a State, local, or Tribal government or the private sector to incur direct costs without the Federal government having first provided the funds to pay those costs. FAA estimates the proposed rule would not result in the expenditure of $187,000,000 or more ($100,000,000 adjusted for inflation using the most current Implicit Price Deflator for the Gross Domestic Product) by State, local, or Tribal governments, in the aggregate, or the private sector, in any one year.

E. Paperwork Reduction Act

The Paperwork Reduction Act of 1995 (44 U.S.C. 3507(d)) requires FAA consider the impact of paperwork and other information collection burdens imposed on the public. FAA has determined there would be no new requirement for information collection associated with this proposed rule.

F. International Compatibility

In keeping with U.S. obligations under the Convention on International Civil Aviation, it is FAA policy to conform to International Civil Aviation Organization (ICAO) Standards and Recommended Practices to the maximum extent practicable. FAA has determined there are no ICAO Standards and Recommended Practices that correspond to these proposed regulations.

G. Environmental Analysis

The Department has analyzed the environmental impacts of this notice of proposed rulemaking pursuant to the National Environmental Policy Act of 1969 (NEPA) (42 U.S.C. 4321 et seq.). FAA has determined that this rule is categorically excluded pursuant to FAA Order 1050.1G. Categorical exclusions are categories of actions that the agency has determined normally do not significantly affect the quality of the human environment and therefore do not require either an environmental assessment (EA) or environmental impact statement (EIS). See DOT Order 5610.1D § 9. In analyzing the applicability of a categorical exclusion, the agency must also consider whether extraordinary circumstances are present that would warrant the preparation of an EA or EIS. Id. § 9(b). This rulemaking, which will align FAA's sport pilot practical test standards with the recent updates in the MOSAIC final rule, is categorically excluded pursuant to FAA Order 1050.1G § 1.4. Appendix B § B-2.6 contains a categorical exclusion for all FAA regulations unless they “may cause a significant impact on the human environment.” FAA does not anticipate any environmental impacts, and there are no extraordinary circumstances present in connection with this rulemaking.

VI. Executive Order Determinations

A. Executive Order 13132, Federalism

FAA has analyzed this proposed rule under the principles and criteria of E.O. 13132, Federalism. FAA has determined this action would not have a substantial direct effect on the States, or the relationship between the Federal Government and the States, or on the distribution of power and responsibilities among the various levels of government, and, therefore, would not have federalism implications.

B. Executive Order 13175, Consultation and Coordination With Indian Tribal Governments

Consistent with E.O. 13175, Consultation and Coordination with Indian Tribal Governments,⁶ and FAA Order 1210.20, American Indian and Alaska Native Tribal Consultation Policy and Procedures,⁷ FAA ensures Federally Recognized Tribes (Tribes) are given the opportunity to provide meaningful and timely input regarding proposed Federal actions that have the potential to affect uniquely or significantly their respective Tribes. At this point, FAA has not identified any unique or significant effects, environmental or otherwise, on Tribes resulting from this proposed rule.

⁶ 65 FR 67249 (Nov. 6, 2000).

⁷ FAA Order No. 1210.20 (Jan. 28, 2004), available at www.faa.gov/documentLibrary/media/1210.pdf.

C. Executive Order 13211, Regulations That Significantly Affect Energy Supply, Distribution, or Use

FAA analyzed this proposed rule under E.O. 13211, Actions Concerning Regulations that Significantly Affect Energy Supply, Distribution, or Use (May 18, 2001). FAA has determined it would not be a “significant energy action” under the executive order and would not be likely to have a significant adverse effect on the supply, distribution, or use of energy.

D. Executive Order 13609, Promoting International Regulatory Cooperation

E.O. 13609, Promoting International Regulatory Cooperation, promotes international regulatory cooperation to (1) meet shared challenges involving health, safety, labor, security, environmental, and other issues and to reduce, eliminate, or (2) prevent unnecessary differences in regulatory requirements. FAA has analyzed this action under the policies and agency responsibilities of E.O. 13609 and has determined this action would have no effect on international regulatory cooperation.

E. Executive Order 14192, Unleashing Prosperity Through Deregulation

This proposed rule would not be an E.O. 14192 regulatory action because this rule is not significant under E.O. 12866

VII. Additional Information

A. Comments Invited

FAA invites interested persons to participate in this rulemaking by submitting written comments, data, or views. FAA also invites comments relating to the economic, environmental, energy, or federalism impacts that might result from adopting the proposals in this document. The most helpful comments reference a specific portion of the proposal, explain the reason for any recommended change, and include supporting data. To ensure the docket does not contain duplicate comments, commenters should submit only one time if comments are filed electronically, or commenters should send only one copy of written comments if comments are filed in writing.

FAA will file in the docket all comments it receives, as well as a report summarizing each substantive public contact with FAA personnel concerning this proposed rule. Before acting on this proposal, FAA will consider all comments it receives on or before the closing date for comments. FAA will consider comments filed after the comment period has closed if it is possible to do so without incurring expense or delay. FAA may change this proposal in light of the comments it receives.

B. Incorporation by Reference Material

The proposed updates to the incorporated by reference PTS may be viewed online in the docket to this rulemaking. For further information, contact the Training and Certification Group at 202-267-1100, acsptsinquiries@faa.gov, or 800 Independence Avenue SW, Washington, DC 20591.

C. Confidential Business Information

Confidential Business Information (CBI) is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important you clearly designate the submitted comments as CBI. Please mark each page of your submission containing CBI as “PROPIN.” FAA will treat such marked submissions as confidential under the FOIA, and they will not be placed in the public docket of this NPRM. Submissions containing CBI should be sent to the person in the FOR FURTHER INFORMATION CONTACT section of this document. Any commentary FAA receives which is not specifically designated as CBI will be placed in the public docket for this rulemaking.

D. Electronic Access and Filing

A copy of this NPRM, all comments received, any final rule, and all background material may be viewed online at www.regulations.gov using the docket number listed above. Electronic retrieval help and guidelines are available on the website. It is available 24 hours each day, 365 days each year. An electronic copy of this document may also be downloaded from the Office of the Federal Register's website at www.federalregister.gov and the Government Publishing Office's website at www.govinfo.gov. A copy may also be found on FAA's Regulations and Policies website at www.faa.gov/regulations_policies.

Copies may also be obtained by sending a request to the Federal Aviation Administration, Office of Rulemaking, ARM-1, 800 Independence Avenue SW, Washington, DC 20591, or by calling (202) 267-9677. Commenters must identify the docket or notice number of this rulemaking.

All documents FAA considered in developing this proposed rule, including economic analyses and technical reports, may be accessed in the electronic docket for this rulemaking.

E. Small Business Regulatory Enforcement Fairness Act

The Small Business Regulatory Enforcement Fairness Act (SBREFA) of 1996 requires FAA to comply with small entity requests for information or advice about compliance with statutes and regulations within its jurisdiction. A small entity with questions regarding this document may contact its local FAA official, or the person listed under the FOR FURTHER INFORMATION CONTACT heading at the beginning of the preamble. To find out more about SBREFA on the internet, visit www.faa.gov/regulations_policies/rulemaking/sbre_act/.

List of Subjects in 14 CFR Part 61

Aircraft, Airmen, Alcohol abuse, Aviation safety, Drug abuse, Incorporation by reference, Recreation and recreation areas, Reporting and recordkeeping requirements, Security measures, Teachers.

The Proposed Amendment

For the reasons discussed in the preamble, the Federal Aviation Administration proposes to amend chapter I of title 14, Code of Federal Regulations as follows:

PART 61—Certification: Pilots, Flight Instructors, and Ground Instructors

1. The authority citation for part 61 continues to read as follows:

Authority: 49 U.S.C. 106(f), 40113, 44701-44703, 44707, 44709-44711, 44729, 44903, 45102-45103, 45301-45302; Sec. 2307, Pub. L. 114-190, 130 Stat. 615 (49 U.S.C. 44703 note); sec. 318, Pub. L. 115-254, 132 Stat. 3186 (49 U.S.C. 44703 note); sec. 820, Pub. L. 118-63, 138 Stat. 1330 (49 U.S.C. 44939 note); secs. 815 and 828, Pub. L. 118-63, 138 Stat. 1328, 1336 (49 U.S.C. 44703 note).

2. Amend § 61.14 by revising paragraphs (a)(12), (a)(13), and (a)(14) to read as follows:

§ 61.14 Incorporation by Reference.

* * * * *

(a) * * *

(12) FAA-S-8081-29B, Sport Pilot and Flight Instructors with a Sport Pilot Rating Practical Test Standards for Airplane Category, Rotorcraft Category Gyroplane, and Glider Category, [TBD date of IBR Approval]; IBR approved for §§ 61.43, 61.321, and 61.419, and appendix A to this part.

(13) FAA-S-8081-30B, Sport Pilot and Flight Instructors with a Sport Pilot Rating Practical Test Standards for Lighter-Than-Air Category, [TBD date of IBR Approval]; IBR approved for §§ 61.43, 61.321, and 61.419, and appendix A to this part.

(14) FAA-S-8081-31B, Sport Pilot and Flight Instructors with a Sport Pilot Rating Practical Test Standards for Powered Parachute Category and Weight-Shift-Control Aircraft Category, [TBD date of IBR Approval]; IBR approved for §§ 61.43, 61.321, and 61.419, and appendix A to this part.

* * * * *

3. Revise and republish appendix A to part 61 to read as follows:

Appendix A to Part 61—Airman Certification Standards and Practical Test Standards

If you are seeking this certificate, rating, and/or privilege . . . | Then this ACS/PTS (incorporated by reference, see § 61.14) is applicable:
Airline Transport Pilot Certificate; Airplane Category—Single-Engine Land Rating, Airplane Category—Single-Engine Sea Rating, Airplane Category—Multiengine Land Rating, Airplane Category—Multiengine Sea Rating | FAA-S-ACS-11A, Airline Transport Pilot and Type Rating for Airplane Category Airman Certification Standards, November 2023.
Airline Transport Pilot Certificate; Rotorcraft Category—Helicopter Rating | FAA-S-8081-20A, Airline Transport Pilot and Aircraft Type Rating Practical Test Standards for Rotorcraft Category Helicopter Rating, November 2023.
Airline Transport Pilot Certificate; Powered-Lift Category | FAA-S-ACS-17, Airline Transport Pilot and Type Rating for Powered-Lift Category Airman Certification Standards, November 2023.
Commercial Pilot Certificate; Airplane Category—Single-Engine Land Rating, Airplane Category—Single-Engine Sea Rating, Airplane Category—Multiengine Land Rating, Airplane Category—Multiengine Sea Rating | FAA-S-ACS-7B, Commercial Pilot for Airplane Category Airman Certification Standards, November 2023.
Commercial Pilot Certificate; Rotorcraft Category—Helicopter Rating | FAA-S-ACS-16, Commercial Pilot for Rotorcraft Category Helicopter Rating Airman Certification Standards, November 2023.
Commercial Pilot Certificate; Rotorcraft Category—Gyroplane Rating | FAA-S-8081-16C, Commercial Pilot Practical Test Standards for Rotorcraft Category Gyroplane Rating, November 2023.
Commercial Pilot Certificate; Powered-Lift Category | FAA-S-ACS-2, Commercial Pilot for Powered-Lift Category Airman Certification Standards, November 2023.
Commercial Pilot Certificate; Glider Category | FAA-S-8081-23B, Commercial Pilot Practical Test Standards for Glider Category, November 2023.
Commercial Pilot Certificate; Lighter-Than-Air Category—Airship Rating, Lighter-Than-Air Category—Balloon Rating | FAA-S-8081-18A, Commercial Pilot Practical Test Standards for Lighter-Than-Air Category, November 2023.
Private Pilot Certificate; Airplane Category—Single-Engine Land Rating, Airplane Category—Single-Engine Sea Rating, Airplane Category—Multiengine Land Rating, Airplane Category—Multiengine Sea Rating | FAA-S-ACS-6C, Private Pilot for Airplane Category Airman Certification Standards, November 2023.
Private Pilot Certificate; Rotorcraft Category—Helicopter Rating | FAA-S-ACS-15, Private Pilot for Rotorcraft Category Helicopter Rating Airman Certification Standards, November 2023.
Private Pilot Certificate; Rotorcraft Category—Gyroplane Rating | FAA-S-8081-15B, Private Pilot Practical Test Standards for Rotorcraft Category Gyroplane Rating, November 2023.
Private Pilot Certificate; Powered-Lift Category | FAA-S-ACS-13, Private Pilot for Powered-Lift Category Airman Certification Standards, November 2023.
Private Pilot Certificate; Glider Category | FAA-S-8081-22A, Private Pilot Practical Test Standards for Glider Category, November 2023.
Private Pilot Certificate; Lighter-Than-Air Category—Airship Rating, Lighter-Than-Air Category—Balloon Rating | FAA-S-8081-17A, Private Pilot Practical Test Standards for Lighter-Than-Air Category, November 2023.
Private Pilot Certificate; Powered Parachute Category—Land Rating, Powered Parachute Category—Sea Rating, Weight-Shift-Control Aircraft Category—Land Rating, Weight-Shift-Control Aircraft Category—Sea Rating | FAA-S-8081-32A, Private Pilot Practical Test Standards for Powered Parachute Category and Weight-Shift-Control Category, November 2023.
Recreational Pilot Certificate; Airplane Category—Single-Engine Land Rating, Airplane Category—Single-Engine Sea Rating, Rotorcraft Category—Helicopter Rating, Rotorcraft Category—Gyroplane Rating | FAA-S-8081-3B, Recreational Pilot Practical Test Standards for Airplane Category and Rotorcraft Category, November 2023.
Sport Pilot Certificate; Airplane Category—Single-Engine Land Privileges, Airplane Category—Single-Engine Sea Privileges, Rotorcraft Category—Gyroplane Privileges, Glider Category | FAA-S-8081-29B, Sport Pilot and Flight Instructors with a Sport Pilot Rating Practical Test Standards for Airplane Category, Rotorcraft Category Gyroplane, and Glider Category, [TBD date of IBR Approval].
Flight Instructor Certificate with a Sport Pilot Rating; Airplane Category—Single-Engine Privileges, Rotorcraft Category—Gyroplane Privileges, Glider Category
Sport Pilot Certificate; Lighter-Than-Air Category—Airship Privileges, Lighter-Than-Air Category—Balloon Privileges | FAA-S-8081-30B, Sport Pilot and Flight Instructors with a Sport Pilot Rating Practical Test Standards for Lighter-Than-Air Category, [TBD date of IBR Approval].
Flight Instructor Certificate with a Sport Pilot Rating; Lighter-Than-Air Category—Airship Privileges, Lighter-Than-Air Category—Balloon Privileges
Sport Pilot Certificate; Powered Parachute Category—Land Privileges, Powered Parachute Category—Sea Privileges, Weight-Shift-Control Aircraft Category—Land Privileges, Weight-Shift-Control Aircraft Category—Sea Privileges | FAA-S-8081-31B, Sport Pilot and Flight Instructors with a Sport Pilot Rating Practical Test Standards for Powered Parachute Category and Weight-Shift-Control Category, [TBD date of IBR Approval].
Flight Instructor Certificate with a Sport Pilot Rating; Powered Parachute Category Privileges, Weight-Shift-Control Aircraft Category Privileges
Instrument Rating—Airplane Instrument Proficiency Check—Airplane | FAA-S-ACS-8C, Instrument Rating—Airplane Airman Certification Standards, November 2023.
Instrument Rating—Helicopter Instrument Proficiency Check—Helicopter | FAA-S-ACS-14, Instrument Rating—Helicopter Airman Certification Standards, November 2023.
Instrument Rating—Powered-Lift Instrument Proficiency Check—Powered-Lift | FAA-S-ACS-3, Instrument Rating—Powered-Lift Airman Certification Standards, November 2023.
Flight Instructor Certificate; Airplane Category—Single Engine Rating Airplane Category—Multiengine Rating | FAA-S-ACS-25, Flight Instructor for Airplane Category Airman Certification Standards, November 2023.
Flight Instructor Certificate; Rotorcraft Category—Helicopter Rating | FAA-S-ACS-29, Flight Instructor for Rotorcraft Category Helicopter Rating Airman Certification Standards, November 2023.
Flight Instructor Certificate; Rotorcraft Category—Gyroplane Rating | FAA-S-8081-7C, Flight Instructor Practical Test Standards for Rotorcraft Category Gyroplane Rating, November 2023.
Flight Instructor Certificate; Powered-lift Category | FAA-S-ACS-27, Flight Instructor for Powered-Lift Category Airman Certification Standards, November 2023.
Flight Instructor Certificate; Glider Category | FAA-S-8081-8C, Flight Instructor Practical Test Standards for Glider Category, November 2023.
Flight Instructor Certificate; Instrument—Airplane Rating, Instrument—Helicopter Rating | FAA-S-8081-9E, Flight Instructor Instrument Practical Test Standards for Airplane Rating and Helicopter Rating, November 2023.
Flight Instructor Certificate; Instrument—Powered-Lift Rating | FAA-S-ACS-28, Flight Instructor—Instrument Rating Powered-Lift Airman Certification Standards, November 2023.
Aircraft Type Rating—Airplane | FAA-S-ACS-11A, Airline Transport Pilot and Type Rating for Airplane Category Airman Certification Standards, November 2023.
Aircraft Type Rating—Helicopter | FAA-S-8081-20A, Airline Transport Pilot and Aircraft Type Rating Practical Test Standards for Rotorcraft Category Helicopter Rating, November 2023.
Aircraft Type Rating—Powered-Lift | FAA-S-ACS-17, Airline Transport Pilot and Type Rating for Powered-Lift Category Airman Certification Standards, November 2023.
Pilot-in-Command Proficiency Check—Airplane | FAA-S-ACS-11A, Airline Transport Pilot and Type Rating for Airplane Category Airman Certification Standards; November 2023.
Pilot-in-Command Proficiency Check—Helicopter | FAA-S-8081-20A, Airline Transport Pilot and Aircraft Type Rating Practical Test Standards for Rotorcraft Category Helicopter Rating, November 2023.
Pilot-in-Command Proficiency Check—Powered-Lift | FAA-S-ACS-17, Airline Transport Pilot and Type Rating for Powered-Lift Category Airman Certification Standards, November 2023.

Issued under authority provided by 49 U.S.C. 106(f), 44701(a), and 44703 in Washington, DC.
Hugh J. Thomas,
Acting Executive Director, Flight Standards Service.

[FR Doc. 2025-22220 Filed 12-5-25; 8:45 am]

BILLING CODE 4910-13-P